DEPARTMENT OF DEFENSE

Department of the Army

Availability for Non-Exclusive, Exclusive, or Partially Exclusive Licensing of U.S. Patent Application Concerning Non-Contact Respiration Monitor

AGENCY: Department of the Army, DoD.

ACTION: Notice.

SUMMARY: In accordance with 37 CFR 404.6 and 404.7, announcement is made of the availability for licensing of U.S. Patent Application No. 10/936,992 entitled “Non-Contact Respiration Monitor,” filed September 9, 2004. Foreign rights are also available (PCT/US02/29563). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates to non-contact monitoring devices, and more particularly, non-contact respiration monitoring devices. According to the invention there is provided a monitoring device having a body defining an air monitoring channel between an air inlet and an air outlet. Disposed in monitoring channel is a respiration detection means, such as a flap-valve, which operates with associated logic circuitry to report the presence or absence of respiration via visual and audible displays. The device may be configured to attached, or be integrally connected to, the air input orifice of an air filter canister of a gas mask or the like. Alternatively, the device may be associated with the air output orifices or valves of a gas mask or the like.

Brenda S. Bowen,
Army Federal Register Liaison Officer.

[FR Doc. 05-21067 Filed 10-20-05; 8:45 am]

BILLING CODE 3710-08-M